DEPARTMENT OF THE INTERIOR

National Park Service

[NPS-WASO-NAGPRA-13089; PPWOCRADN0-PCU00RP14.R50000]

Notice of Inventory Completion: University of Oregon Museum of Natural and Cultural History, Eugene, OR

AGENCY: National Park Service, Interior.

ACTION: Notice.

SUMMARY: The University of Oregon Museum of Natural and Cultural History has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the University of Oregon Museum of Natural and Cultural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of Oregon Museum of Natural and Cultural History at the address in this notice by July 17, 2013.

ADDRESSES: Dr. Pamela Endzweig, Director of Collections, Museum of Natural and Cultural History, 1224 University of Oregon, Eugene, OR 97403-1224, telephone (541) 346-5120.

SUPPLEMENTARY INFORMATION: Notice is here given in accordance with the Native American Graves Protection and Repatriation Act (NAGPRA), 25 U.S.C. 3003, of the completion of an inventory of human remains and associated funerary objects under the control of the University of Oregon Museum of Natural and Cultural History, Eugene, OR. The human remains and associated funerary objects were removed from Gilliam, Sherman, Wasco, and Wheeler Counties, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by University of Oregon Museum of Natural and Cultural History professional staff in consultation with representatives of the Confederated Tribes of the Warm Springs Reservation of Oregon.

History and Description of the Remains

In 1938, human remains representing, at minimum, one individual were removed from Pine Hollow Cave #1, along a tributary of the John Day River, in Sherman County, OR, during legally authorized excavations by archeologists from the University of Oregon. No known individual was identified. No associated funerary objects are present.

In 1938, human remains representing, at minimum, four individuals were removed from Courthouse Rock, near Antelope, in Wasco County, OR, during legally authorized excavations by archeologists from the University of Oregon. No known individuals were identified. The 26 associated funerary objects are 13 points, 9 scrapers, 1 blade, 1 bone awl, 1 pumice block, and 1 lot of pigment samples.

In 1946, human remains representing, at minimum, one individual were removed from Butte Creek Cave (site 35WH1), in Wheeler County, OR, during legally authorized excavations by archeologists from the University of Oregon. Objects removed from the site during a previous excavation in 1938 were subsequently found to be associated with this individual. No known individual was identified. The 25 associated funerary objects are 1 basket, 5 basket fragments, 7 scrapers, 1 piece of wolverine fur, 1 fragmentary cape or blanket of twined rabbit skin strips, 1 dog skeleton, 2 pieces of matting, 5 pieces of cordage, 1 piece of felt, and 1 slag.

In 1946, human remains representing, at minimum, one individual were removed from a cremation in the vicinity of Hoover Creek, near Fossil, in Wheeler County, OR, during legally authorized excavations by archeologists from the University of Oregon. No known individual was identified. The 12 associated funerary objects are 1 scraper fragment, 1 copper pendant, 1 pipe in fragments, 2 worked tuff, 1 worked bone, 1 dentalium shell, 1 bird bone, 1 pestle, 1 worked chert, and 2 bone fragments.

In 1951, human remains representing, at minimum, one individual were removed from the Condon Lumber Company mill, near Lonerock, in Gilliam County, OR, by the Gilliam County coroner and transferred to the University of Oregon Museum of Natural and Cultural History. No known individual was identified. No associated funerary objects are present.

Based on archeological context, the individuals described above are determined to be Native American. Based on provenience, the Native American human remains are reasonably believed to be affiliated with the Tenino people. Historical documents, ethnographic sources, and oral history indicate that Tenino people have occupied north-central Oregon since pre-contact times. The Tenino people are one of the tribes that compose the Confederated Tribes of the Warm Springs Reservation of Oregon.

Determinations Made by the University of Oregon Museum of Natural and Cultural History

Officials of the University of Oregon Museum of Natural and Cultural History have determined that:

• Pursuant to 25 U.S.C. 3001(9), the human remains described in this notice represent the physical remains of eight individuals of Native American ancestry.

• Pursuant to 25 U.S.C. 3001(3)(A), the 63 objects described in this notice are reasonably believed to have been placed with or near individual human remains at the time of death or later as part of the death rite or ceremony.

• Pursuant to 25 U.S.C. 3001(2), there is a relationship of shared group identity that can be reasonably traced between the Native American human remains and associated funerary objects and the Confederated Tribes of the Warm Springs Reservation of Oregon.

Additional Requestors and Disposition

Lineal descendants or representatives of any Indian tribe or Native Hawaiian organization not identified in this notice that wish to request transfer of control of these human remains and associated funerary objects should submit a written request with information in support of the request to Dr. Pamela Endzweig, Director of Collections, University of Oregon Museum of Natural and Cultural History 1224 University of Oregon, Eugene, OR 97403-1224, telephone (541) 346-5120, by July 17, 2013. After that date, if no additional requestors have come forward, transfer of control of the human remains and associated funerary objects to the Confederated Tribes of the Warm Springs Reservation of Oregon may proceed.

The University of Oregon Museum of Natural and Cultural History is responsible for notifying the Confederated Tribes of the Warm Springs Reservation of Oregon that this notice has been published.

Dated: May 10, 2013.
Sherry Hutt,
Manager, National NAGPRA Program.

[FR Doc. 2013-14330 Filed 6-14-13; 8:45 am]

BILLING CODE 4312-50-P